DEPARTMENT OF JUSTICE

National Institute of Corrections

Solicitation for A Cooperative Agreement: Continuation of Evidence Based Implementation in Maricopa County, AZ, and Orange County, CA

AGENCY: National Institute of Corrections, Department of Justice.

ACTION: Solicitation for a cooperative agreement.

SUMMARY: Through this twelve month cooperative agreement NIC will build on work started in 2002 to implement systemwide evidence based policy and practices (EBP). This award will complete work already started in Maricopa County, Arizona, and Orange County, California, to enable them to sustain their rates of ongoing progress in terms of measured recidivism outcomes and other productivity indicators through time. Measured progress must be made in all organizational and system alignment areas indicated in the strategic plans already developed by both sites.

DATES: All applications are due by 4 p.m. EDT on August 21, 2008.

ADDRESSES: Mailed applications must be sent to: Director, National Institute of Corrections, 320 First St., NW., Room 5007, Washington, DC 20534. Applicants are encouraged to use Federal Express, UPS, or similar service to ensure delivery by the due date.

Hand delivered applications should be brought to 500 First Street, NW., Washington, DC 20534. At the front desk, call 202-307-3106, extension 0, for pickup.

Faxed applications will not be accepted. Only e-mailed applications which are submitted via www.grants.gov will be accepted.

FOR FURTHER INFORMATION: A copy of this announcement and the required application forms can be downloaded from the NIC Web site at www.nicic.gov. Hard copies of the announcement can be obtained by calling Pam Davison at 1-800-995-6423, extension 30484, or at e-mail pdavison@bop.gov.

All technical or programmatic questions concerning this announcement should be directed to Dot Faust at dfaust@bop.gov or to George Keiser at gkeiser@bop.gov.

SUPPLEMENTARY INFORMATION:

Background: Since 2002, the National Institute of Corrections has been involved in systemwide implementation of evidence based policy and practices. Through NIC's work with the Cooperative Agreement Awardee Community Resources for Justice, Inc. and a National Steering Committee, a package of evidence based policy implementation tools and white papers have been established (see NIC's Web site: www.nicic.gov.) The state-level learning sites of Maine and Illinois have provided direct implementation experience for developing processes, evaluation measures, and advocacy positions to firmly establish evidence based policy and practice as the preferred business practice for reaching risk and recidivism reduction goals in those two states. NIC's formal technical assistance role with the pilot sites of Maine and Illinois ended in 2007, although stakeholders in both states continue to provide coaching for other sites and to collect data and analyze outcome measures that inform decision making as the efforts move forward.

The existing implementation initiative expanded to two metropolitan county sites in 2007, taking with it lessons learned and the implementation tools developed during the Maine/Illinois phase. The two urban sites identified in 2007 (Maricopa County, Arizona, and Orange County, California) were deliberately chosen because of their potential to take already established evidence based policy and practice (EBP) to higher, more advanced levels, and to provide experience implementing evidence based change in large, complex county governments. During most of 2007 and 2008, the Project Team has met with a variety of system stakeholders in these sites to analyze gaps in EBP implementation, develop strategic plans that address these gaps and move the systems forward, and to establish both feedback loops and evaluation plans to guide these two large urban jurisdictions toward an advanced stage of EBP implementation.

Due to agency policy, NIC obligates itself to complete this final twelve-month phase of existing work. In no way does this reflect any dissatisfaction on the part of NIC or the two implementation sites with the current assistance provider. The current provider is not barred from this competition.

Purpose: The purpose of this final twelve-month period of the Maricopa and Orange County Initiatives is to achieve an advanced level of EBP implementation in both sites that will enable them to sustain their rates of ongoing progress in terms of measured recidivism outcomes and other productivity indicators through time. Measured progress must be made in all organizational and system alignment areas indicated in the strategic plans already developed by both sites.

Specific Requirements: The proposal should include a description of the project objectives, methodologies and management plan for achieving the completion of the results as indicated in the following information within the 12-month time period. This description should explain and accompany a Work Plan for the 12-month period, beginning September 2, 2008 through September 1, 2009. The Work Plan should be attached to a GANTT chart, separated by TA site (i.e., one for Orange County; and one for Maricopa County.) Project tasks should be mapped on the GANTT Chart in 3-month, or quarterly, pieces of work. At a minimum, the Work Plan should note relevant objectives, tasks, responsible persons, benchmark dates and measures of completion. A budget narrative that is consistent with the program description and Work Plan must also be included.

Strategy And Process Benchmarks: It is intended that the following process benchmarks (or objectives) be reached or refined in Maricopa and Orange Counties during the next 12-month time period, facilitated and documented by the awardee of this solicitation. For each benchmark, the applicant should describe the outcomes, process measures or products that demonstrate that the objectives have arrived at the achievement stages or at the process development levels described for each jurisdiction. These indicators need to be consistent with the Strategic Plans previously developed (available at: http://www.ocgov.com/probation/library/OCWorkplan071608.pdf and http://www.superiorcourt.maricopa.gov/AdultProbation/docs/EBPplan.pdf.)

By September of 2009, the following benchmarks need to have been addressed or need to be included in ongoing improvement strategies as described:

Maricopa County

Organizational Climate: Results of assessment or reassessment will have been analyzed and reviewed. Organizational interventions will have been developed, delivered and measured as needed.

First-line Supervisors: Management reports will have been developed on the quality assurance (QA) measures, and will be reviewed and used by the executive team. Performance appraisal processes will reflect these changes.

Performance Appraisal: Core competencies will be included in the appraisal process, and will have been aligned with the Maricopa County strategic plan and results oriented budget process.

Hiring and Promoting: Job descriptions and interview processes will have been revised. Succession planning strategies will be under measurement and review.

Communication: A Communication Plan will have been developed, and will be on track with the original objectives and time line.

Quality Implementation: The QA Plan will be on track with time lines, and the QA Team will have developed objectives and productivity measures. The QA Team will have been trained in risk assessment and case management fidelity.

Training: A full curriculum for skill training and quality assurance will have been developed and will be in the process of being administered, including training-for-trainers and specialized material for mid-managers.

Graduated Responses: Guidelines will have been developed and pilot testing will have started.

Stakeholder Involvement: An outreach plan will have been developed and community engagement will be in the process of being implemented. Treatment providers will have been included in this plan. Training and assessment will be part of the outreach plan, both for stakeholders and for department executive staff.

Technology: As needed, adjustments will have been made to accommodate the needs for management reports, QA measurement, accurate risk assessment and case management.

Orange County

Assessments: Both organizational and case level assessment tools will be in the process of being administered or re-administered, and measurements will be ongoing to gauge fidelity and effectiveness.

Training: Assessed training needs will have been reflected in new training curriculums at all staff levels. Competencies and skills will be under continual measurement.

Staff Performance: Competency models will have been developed and will be under a monitoring process for coaching and feedback. The new models will reflect emphasis on staff engagement and EBP-focused competencies.

Client Satisfaction and officer/offender relationships will have been defined and measured.

Case Planning: Policies and processes for adult and juvenile case planning will have been unified for purposes of consistency and data sharing when feasible. Progress will have been made on the development of enhanced data collection to include community resources.

Data: New data elements as required to measure evidence based practices will have been incorporated into the data base for measurement and review.

Stakeholders: Communication strategies will have been developed for the identified key stakeholders. Both education and monitoring will have been put into process. The target stakeholders will include internal staff and private treatment providers. Both informational reporting and goal setting will be part of routine practice.

Program Evaluation: Program evaluations will be conducted on evidence based programs, using validated program evaluation instruments and processes.

Organizational Change Capacity: Leadership development initiatives and transition strategies will be established to strengthen the capacity for sustained and continued incorporation of evidence based principles and capacity of current and future department leaders.

Evaluation and Research (both Maricopa and Orange Counties)

Officer Level: Complete data collection and analysis will have begun on site. Separate analyses will be in the process of being completed for line staff, using evidence based competencies and skills.

Supervisor and Leadership Level: Data collection and analysis on the 360 assessments, team assessments and other management level assessments administered in the first year of implementation will have been completed. Ongoing reassessments and strategy adjustments will be part of the implementation plan.

Quality Assurance: Complete QA plans will have been implemented in both pilot sites. At a minimum, measurements will be related to caseload management, risk assessment, treatment quality and recidivism reduction objectives as identified.

Offenders: Research will have begun on offender surveys and core competency relationships to outcome (see Offender/Officer Relationship.)

Intermediate and Final Outcome Measures: At a minimum, data related to identified intermediate outcome measures will be routinely collected, analyzed and used in decision making. Data related to both intermediate and final recidivism reduction measures will be part of management reporting.

Offender/Officer Relationship: Preliminary data related to the relationship between officer behavior and attitudes and offender performance will have been collected and analyzed.

Organizational Level: Organizational assessments administered during the first year of the implementation initiative will be under a process of continual review as needed to address identified growth areas and progressive improvements in policy and practice.

Application Requirements: The application package must include: OMB Standard Form 424, Application for Federal Assistance; cover letter that identifies the audit agency responsible for the applicant's financial accounts as well as the audit period or fiscal year that the applicant operates under (e.g., July 2 through June 30); an outline of projected costs; and the following forms: OMB Standard Form 424A, Budget Information—Non Construction Programs; and OMB Standard Form 424B, Assurances—Non Construction Programs; (These forms are available on www.grants.gov.) Other forms: You will also need to attach the completed DOJ/NIC Certification Regarding Lobbying; Debarment, Suspension and Other Responsibility Matters; and the Drug-Free Workplace Requirements (available at http://www.nicic.org/Downloads/PDF/certif-frm.pdf.)

It is requested that the program narrative text be limited to no more that 10 double spaced pages, excluding statements of organizational or individual capacity and summaries of the experiences and capabilities of key project staff and/or the individual applicant. Please submit summaries of experience and expertise and not full curricula vitae. Also note in your application any technical skills, experience or credentials that make you or your organization distinctly qualified to deliver the specified products.

Telephone Conference: A telephone conference will be conducted on August 8, 2008, at 1 pm EDT for persons receiving this solicitation and having a serious intent to respond. In this conference, NIC project managers will respond to questions regarding the solicitation and expectations of work to be performed. Please notify Dot Faust electronically (dfaust@bop.gov) by 12 pm EDT on August 6, 2008, regarding your interest in participating in the telephone conference. You will be provided with a call-in number and instructions. In addition, NIC project managers will post answers to questions received from potential applicants on its Web site for the remaining week in which the solicitation is open to public interest.

Authority: Public law 93-415.

Funds Available: NIC is seeking the applicants' best ideas regarding accomplishment of the scope of work and the related costs for achieving the goals of this solicitation. The final budget and award amount will be negotiated between NIC and the successful applicant. Funds may only be used for the activities that are linked to the desired outcome of the project.

Eligibility of Applicants: An eligible applicant is any public or private agency, educational institution, organization, individual or team with the expertise and experience in described areas.

Review Considerations: Applications received under this announcement will be subject to a 3 to 5 person NIC Peer Review Process.

Number of Awards: One.

NIC Application Number: 08C80. This number should appear as a reference line in the cover letter, in box 4a of Standard Form 424, and outside of the envelope in which the application is sent.

Catalog of Federal Domestic Assistance Number: 16.603.

Executive Order 12372: This program is subject to the provisions of Executive Order 12372. E.O. 12372 allows states the option of setting up a system for reviewing applications from within their states for assistance under certain Federal programs. Applicants (other than Federally-recognized Indian tribal governments) should contact their State Single Point of Contact (SPOC), a list of which can be found at http://www.whitehouse.gov/omb/grants/spoc.html.

Thomas J. Beauclair,
Deputy Director, National Institute of Corrections.

[FR Doc. E8-17725 Filed 8-1-08; 8:45 am]

BILLING CODE 4410-36-P